Proclamation 7340 of September 14, 2000

National POW/MIA Recognition Day, 2000

By the President of the United States of America

A Proclamation

This year marks the 50th anniversary of the onset of the Korean War and the 25th anniversary of the end of the war in Vietnam. For many Americans, these milestones bring difficult memories; for former prisoners of war and the families of those still missing in action, these anniversaries evoke particularly painful memories and emotions.

In both of these conflicts, hundreds of thousands of brave Americans left their homes and families to defend freedom and democracy in the face of communist aggression. Thousands lost their lives in battle, and the fate of 10,000 Americans is still unknown—they are missing in action. We know that many Americans held captive were subjected to unspeakable horrors, but throughout maintained their honor, strong faith in our Nation, and indomitable spirit.

There are approximately 50,000 courageous former POWs living among us, including those held captive during World War II. Many still cope with the physical and emotional effects of their captivity. We owe a profound debt of gratitude to these quiet heroes who served our Nation so well and sacrificed so much. And to the families of those still missing in action, we pledge our unwavering commitment to achieve the fullest possible accounting for their loved ones and to seek the recovery, repatriation, and identification of the remains of those who have died.

On September 15, 2000, the flag of the National League of Families of American Prisoners of War and Missing in Southeast Asia, a black and white banner symbolizing America's missing service members and our unshakable resolve to ascertain their fate, will be flown over the White House, the U.S. Capitol, the Departments of State, Defense, and Veterans Affairs, the Selective Service System Headquarters, the Vietnam Veterans Memorial, the Korean War Veterans Memorial, national cemeteries, and other locations across our country—a powerful reminder to the world that we will keep faith with those who so faithfully served America.

NOW, THEREFORE, I, WILLIAM J. CLINTON, President of the United States of America, by virtue of the authority vested in me by the Constitution and laws of the United States, do hereby proclaim September 15, 2000, as National POW/MIA Recognition Day. I call upon all Americans to join me in remembering former American prisoners of war who suffered the hardships of enemy captivity and those missing in action whose fate is still undetermined. I call upon Federal, State, and local government officials and private organizations to observe this day with appropriate ceremonies and activities.

IN WITNESS WHEREOF, I have hereunto set my hand this fourteenth day of September, in the year of our Lord two thousand, and of the Independence of the United States of America the two hundred and twenty-fifth.

wj

[FR Doc. 00-24177

Filed 9-18-00; 8:45 am]

Billing code 3195-01-P